DEPARTMENT OF ENERGY

Federal Energy Regulatory Commission

[Docket No. PF14-19-000]

Downeast Liquefaction, LLC; Notice of Intent To Prepare an Environmental Impact Statement for the Planned Downeast LNG Import-Export Project, Request for Comments on Environmental Issues and Notice of Public Scoping Meeting

The staff of the Federal Energy Regulatory Commission (FERC or Commission) will prepare an environmental impact statement (EIS) that will discuss the environmental impacts of the Downeast LNG Export Project involving construction and operation of facilities by Downeast Liquefaction, LLC (Downeast Liquefaction) in Washington County, Maine. The Commission will use this EIS in its decision-making process to determine whether the project is in the public convenience and necessity.

This notice announces the opening of the scoping process the Commission and its cooperating agencies will use to gather input from the public and interested agencies on the project. Your input will help the Commission staff determine what issues they need to evaluate in the EIS. Please note that the scoping period will close on November 3, 2014.

You may submit comments in written form or verbally. Further details on how to submit written comments are in the Public Participation section of this notice. In lieu of or in addition to sending written comments, the Commission invites you to attend the public scoping meeting scheduled as follows: FERC Public Scoping Meeting, Downeast LNG Import-Export Project, October 22, 2014, 7:00 p.m. local time, Robbinston Grade School, 904 US Route 1, Robbinston, ME 04671.

This notice is being sent to the Commission's current environmental mailing list for this project. State and local government representatives should notify their constituents of this planned project and encourage them to comment on their areas of concern.

If you are a landowner receiving this notice, a pipeline company representative may contact you about the acquisition of an easement to construct, operate, and maintain the planned pipeline facilities associated with the project. The company would seek to negotiate a mutually acceptable agreement. However, if the Commission approves the project, that approval conveys with it the right of eminent domain for parcels crossed by the pipeline. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

Downeast Liquefaction plans to develop, construct, and operate liquefied natural gas (LNG) terminal facilities that would convert the proposed Downeast LNG Import Project (Docket Nos. CP07-52-000, CP07-53-000, and CP07-53-001) into a bidirectional import-export LNG terminal and pipeline capable of producing 3 million metric tonnes per annum (mtpa) of LNG and 100 million standard cubic feet per day (mmscfd) of regasified LNG.

The Downeast LNG Import-Export Project would consist of the following facilities:

Marine Facilities and Transfer Lines:

• The Import-Export Project would involve no changes to the marine facilities and transfer lines that were proposed and evaluated for the Import Project.

LNG Storage and Regasification:

• The Import-Export Project would include a single LNG storage tank with a nominal usable storage capacity of 160,000 cubic meters. The storage tank design and location would be the same as the southern-most LNG storage tank proposed for the Import Project. The northern-most LNG storage tank proposed for the Import Project would not be required for the Import-Export Project.

• The Import-Export Project would include two Submerged Combustion Vaporizers used for regasification of LNG during import mode, of which one would be used during operation while the second would be a backup.

LNG Liquefaction Facilities:

• feed gas pretreatment systems;

• one LNG liquefaction train with a nominal design capacity of 3 mtpa;

• refrigerant storage and handling;

• refrigerant compression systems; and

• refrigerant cooling system.

Pipeline Facilities:

• The pipeline for the Import-Export Project would be 24 inches in diameter, a change from 30 inches in diameter as proposed for the Import Project. The pipeline route and construction work areas would remain the same as proposed for the Import Project.

Ancillary Facilities:

• onsite power generation to support operation of the terminal in export mode; and

• utilities, infrastructure, and support systems within the terminal site would be revised for the Import-Export Project to accommodate addition of liquefaction capabilities.

The general location of the project facilities is shown in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

The planned LNG Export Project facilities would be constructed entirely within the 80-acre site of the proposed Downeast LNG Import Project, at Mill Cove in Robbinston, Maine.

The EIS Process

The Commission intends to publish its review of the Downeast LNG Export Project as a supplement to the previous review of the Downeast LNG Import Project (Docket Nos. CP07-52-000, CP07-53-000, and CP07-53-001), to be considered together as the Downeast LNG Import-Export Project.

NEPA requires the Commission to take into account the environmental impacts that could result from an action whenever it considers the issuance of a Certificate of Public Convenience and Necessity. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS. However, comments should focus on issues specific to the Downeast LNG Export Project and not issues previously addressed for the Downeast LNG Import Project.

² “We,” “us,” and “our” refer to the environmental staff of the Commission's Office of Energy Projects.

In the EIS, we will discuss impacts that could occur as a result of the construction and operation of the planned project under these general headings:

• Geology and soils;

• water resources, fisheries, and wetlands;

• vegetation and wildlife;

• endangered and threatened species;

• cultural resources;

• land use;

• socioeconomics;

• air quality and noise;

• reliability and safety;

• engineering and design material; and

• direct, indirect, and cumulative environmental impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The Supplemental draft EIS will present our independent analysis of the issues. We will publish and distribute the Supplemental draft EIS for public comment. After the comment period, we will consider all timely comments and revise the document, as necessary, before issuing a Supplemental final EIS. To ensure we have the opportunity to consider and address your comments, please carefully follow the instructions in the Public Participation section beginning on page 6.

With this notice, we are asking agencies with jurisdiction by law and/or special expertise with respect to the environmental issues related to this project to formally cooperate with us in the preparation of the EIS.³ Agencies that would like to request cooperating agency status should follow the instructions for filing comments provided under the Public Participation section of this notice. Currently, the U.S. Army Corps of Engineers (COE), U.S. Environmental Protection Agency, National Oceanic and Atmospheric Administration National Marine Fisheries Service, and Maine Department of Environmental Protection are participating as cooperating agencies in the preparation of the EIS to satisfy their NEPA responsibilities related to this project. Also, in accordance with the 2004 Interagency Agreement on the safety and security review of waterfront import/export LNG facilities, the U.S. Coast Guard and U.S. Department of Transportation participate as cooperating agencies. The COE will be in attendance at the public scoping meeting to gather information for their independent review process and to answer any public questions.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Office(s) (SHPO), and to solicit their views and those of other government agencies, interested Indian tribes, and the public on the project's potential effects on historic properties.⁴ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on our previous review of the Downeast LNG Import Project, a preliminary review of the planned Export Project facilities, and the environmental information provided by Downeast Liquefaction. This preliminary list of issues may change based on your comments and our analysis. Issued identified include:

• Potential impacts on wetlands and other aquatic resources within the LNG terminal site;

• potential impacts from release of ballast water from LNG carriers during the loading of LNG cargo;

• potential visual effects on surrounding areas;

• potential noise and air emissions impacts from the addition of natural gas liquefaction facilities; and

• public safety and hazards associated with the liquefaction and transport of LNG.

Public Participation

You can make a difference by providing us with your specific comments or concerns about the project. Since Commission staff will issue a supplement to the previous environmental documents for the Downeast LNG Import Project, we do not intend to re-evaluate issues previously addressed for the LNG Import Project; therefore, comments are requested on issues specific to the LNG Export Project. Your comments should focus on the potential environmental effects, reasonable alternatives, and measures to avoid or lessen environmental impacts. The more specific your comments, the more useful they will be. To ensure that your comments are timely and properly recorded, please send your comments so that the Commission receives them in Washington, DC on or before November 3, 2014. This is not your only public input opportunity; please refer to the Environmental Review Process flowchart in appendix 2.

For your convenience, there are three methods you can use to submit your comments to the Commission. In all instances, please reference the project docket number (PF14-19-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed Supplemental draft EIS will be sent to the environmental mailing list for public review and comment. If you would prefer to receive a paper copy of the document instead of the CD version or would like to remove your name from the mailing list, please return the attached Information Request (appendix 3).

Becoming an Intervenor

Once Downeast Liquefaction files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF14-19-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: October 3, 2014.
Kimberly D. Bose,
Secretary.

[FR Doc. 2014-24297 Filed 10-10-14; 8:45 am]

BILLING CODE 6717-01-P.